DEPARTMENT OF THE INTERIOR

Fish and Wildlife Service

Issuance of Permit for Incidental Take of Threatened Species for the Pinery Glen Residential Development, Douglas County, CO

AGENCY: Fish and Wildlife Service, Interior.

ACTION: Notice of issuance of permit for incidental take of endangered species.

SUMMARY: On October 17, 2001, a notice was published in the Federal Register (66 FR 52777), that an application has been filed with the U.S. Fish and Wildlife Service (Service) by Continental Homes on behalf of the Pinery Glen residential subdivision, Douglas County, Colorado, for a permit to incidentally take, pursuant to section 10(a)(1)(B) of the Endangered Species Act of 1973 (16 U.S.C. 1539), as amended, Preble's meadow jumping mouse (Zapus hudsonius preblei), pursuant to the terms of the Environmental Assessment/Habitat Conservation Plan for Issuance of an Endangered Species Section 10(a)(1)(B) Permit for the Incidental Take of the Preble's Meadow Jumping Mouse (Zapus hudsonius preblei) at Pinery Glen in Douglas County, Colorado.

Notice is hereby given that on March 20, 2002, as authorized by the provisions of the Endangered Species Act, the Service issued a permit (TE-048568-0) to the above named party subject to certain conditions set forth therein. The permit was granted only after the Service determined that it was applied for in good faith, that granting the permit will not be to the disadvantage of the threatened species, and that it will be consistent with the purposes and policy set forth in the Endangered Species Act, as amended.

Additional information on this permit action may be requested by contacting the Service's Colorado Ecological Services Field Office, 755 Parfet Street, Suite 361, Lakewood, Colorado 80215, telephone (303) 275-2370, between the hours of 7 a.m. and 4:30 p.m. weekdays.

Dated: March 25, 2002.
John A. Blackenship,
Acting Regional Director, Region 6.

[FR Doc. 02-9172 Filed 4-15-02; 8:45 am]

BILLING CODE 4310-55-P